DEPARTMENT OF TRANSPORTATION

Federal Aviation Administration

Thirteenth Meeting: RTCA Special Committee 214: Working Group 78: Standards for Air Traffic Data Communication Services

AGENCY: Federal Aviation Administration (FAA), DOT.

ACTION: Notice of RTCA Special Committee 214: Working Group 78: Standards for Air Traffic Data Communication Services.

SUMMARY: The FAA is issuing this notice to advise the public of a meeting of the RTCA Special Committee 214: Working Group 78: Standards for Air Traffic Data Communication Services.

DATES: The meeting will be held September 26-30, 2011 from 9 a.m.-5 p.m.

ADDRESSES: The meeting will be held at the Parc tertiaire Silic, 3 avenue Charles Lindburg, BP 20351, 94628 RUNGIS Cedex, Paris, France. Confirm attendance with Pascal Rohault at telephone number 01.79.61.40.00 or contact pascal.rohault@thalesgroup.com.@eurocontrol.int.

FOR FURTHER INFORMATION CONTACT: RTCA Secretariat, 1150 18th Street, NW., Suite 910, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a RTCA Special Committee 214: Working Group 78: Standards for Air Traffic Data Communication Services meeting. The agenda will include:

Additional Information

Additional information and all the documents to be considered can be found in the Web site http://www.faa.gov/go/SC214.

Meeting Objectives

1. Consider DO-224C Signal-in-Space Minimum Aviation System Performance Standards (MASPS) for Advanced VHF Digital Data Communications Including Compatibility with Digital Voice Techniques for approval (RTCA Only).

• Consider DO-281B/ED-92B Minimum Operational Performance Standards (MOPS) for Aircraft VDL Mode 2 Physical, Link and Network Layer for release for final review and comment.

Agenda

Monday, September 26, 2011

• 9:00-17:00 Sub group session.

Tuesday, September 27, 2011

• 9:00-17:00 Sub-Group Session.

Wednesday, September 28, 2011

• Plenary Session 9:00-12:30.

• Welcome/Introduction/Administrative Remarks.

• Approval of the Agenda.

• Discuss comments received during public review of DO-224C. Approve final changes.

• Decide on approval of DO-224C.

• Discuss comments received during plenary review of DO-281B/ED-92B. Approve final changes.

• Decide on release of DO-281B/ED-92B for final review and comment.

• Any Other Business.

• Adjourn.

• 13:30-17:00 Sub-Group Session.

Thursday, September 28, 2011

• 9:00-17:00 Plenary Session.

Friday, September 30, 2011

• 9:00-16:00 Sub-Group Sessions.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on September 8, 2011.
Robert L. Bostiga,
Manager, Agency Committee Management Office, Business Operations Group, AJP-92, NextGen & Operations Planning.

[FR Doc. 2011-23698 Filed 9-14-11; 8:45 am]

BILLING CODE 4910-13-P